DEPARTMENT OF VETERANS AFFAIRS

[OMB Control No. 2900-0864]

Agency Information Collection Activity: Post Separation Transition Assistance Program (TAP) Assessment Survey

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before September 23, 2025.

ADDRESSES: Comments must be submitted through www.regulations.gov.

FOR FURTHER INFORMATION CONTACT:

Program-Specific information: Kendra McCleave, (202) 461-9568, Kendra.McCleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Post Separation Transition Assistance Program (TAP) Assessment Survey.

OMB Control Number: 2900-0864.

Type of Review: Revision of a currently approved collection.

Abstract: The PSTAP Assessment is administered by VA to assess how the TAP training for Transitioning Service members (TSMs) prepares Veterans for civilian life and its effects on long-term Veteran outcomes. This information collection request (ICR) is conducted once per year and is designed as two separate collections which include a Cross-Sectional Survey and a Longitudinal Survey. The survey population for the Cross-Sectional Survey includes all Veterans who meet the criteria at the time of fielding of having separated from the military at six months, one year, and three years prior to the date that surveys. Service members who participated in the Cross-Sectional Survey and voluntarily agreed to participate in the Longitudinal Survey make up the Longitudinal Survey population. VA will use email and mail methods to administer the survey, reducing the burden on respondents. The surveys are necessary to gauge the long-term effectiveness of the Transition Assistance Program (TAP) by: (1) examining the relationship between attendance in TAP courses and the use of VA Benefits; (2) analyzing the effect of participation in TAP courses on the long-term outcomes of Veterans in the broad life domains of employment, education, health and social relationships, financial, social connectivity and overall satisfaction and well-being, and; (3) identifying areas of improvement for TAP and the broader transition process to guide training and/or operational activities aimed at enhancing the quality of service provided to transitioning service members, Veterans, their families and caregivers.

The National Defense Authorization Act (NDAA) for Fiscal Year 2019 mandated several changes to TAP. In addition, Section 4305 of the Veterans Health Care and Benefits Improvement Act of 2020 (hereafter referred to as Public Law 116-315) calls for a one-year independent assessment of TAP. Section 4306 of Public Law 116-315 calls for a five-year longitudinal study on three cohorts of Veterans to assess changes to TAP under the Fiscal Year 2019 NDAA and changes based on the independent assessment under Section 4305 and provide annual progress reports and a final report. The Section 4306 Study will analyze the outcomes between Veterans who attended TAP before and after changes to the program. Both the PSTAP Assessment and Section 4306 Study are included in this current ICR because some Veterans in the PSTAP Study were also selected for the Section 4306 Study cohorts. A single survey instrument collects the information needed for both studies, so Veterans are not contacted twice. This reduces burden while ensuring both studies collect the data required to meet Congressional and Government requirements.

Affected Public: Individuals.

Estimated Annual Burden: 9,582 hours.

Estimated Average Burden per Respondent: 18.5 minutes.

Frequency of Response: Annual.

Estimated Number of Respondents: 31,075.

Authority: 44 U.S.C. 3501 et seq.

Dorothy Glasgow,
Acting, VA PRA Clearance Officer, Office of Enterprise and Integration, Data Governance Analytics, Department of Veterans Affairs.

[FR Doc. 2025-14059 Filed 7-24-25; 8:45 am]

BILLING CODE 8320-01-P